DEPARTMENT OF JUSTICE

Bureau of Alcohol, Tobacco, Firearms, and Explosives

[Docket No. ATF 2018R-04]

Granting of Relief; Federal Firearms Privileges

AGENCY: Bureau of Alcohol, Tobacco, Firearms, and Explosives (ATF), Department of Justice.

ACTION: Notice of granting restoration of Federal firearms privileges.

SUMMARY: Xisico USA, Inc. (Xisico), has been granted relief from the disabilities imposed by Federal laws by the Director of ATF with respect to the acquisition, receipt, transfer, shipment, transportation, or possession of firearms.

FOR FURTHER INFORMATION CONTACT: Denise Brown, Enforcement Programs and Services; Bureau of Alcohol, Tobacco, Firearms and Explosives, U.S. Department of Justice; 99 New York Avenue NE, Washington, DC 20226; telephone (202) 648-7070.

SUPPLEMENTARY INFORMATION: The Attorney General is responsible for enforcing the provisions of the Gun Control Act of 1968 (GCA), title 18, United States Code (U.S.C.), chapter 44. He has delegated that responsibility to the Director of ATF, subject to the direction of the Attorney General and the Deputy Attorney General. 28 CFR 0.130(a). ATF has promulgated regulations that implement the provisions of the GCA in 27 CFR part 478.

Section 922(g) of the GCA prohibits certain persons from shipping or transporting any firearm in interstate or foreign commerce, or receiving any firearm which has been shipped or transported in interstate or foreign commerce, or possessing any firearm in or affecting commerce. These prohibitions apply to any person who—

(1) Has been convicted in any court of a crime punishable by imprisonment for a term exceeding one year;

(2) Is a fugitive from justice;

(3) Is an unlawful user of or addicted to any controlled substance;

(4) Has been adjudicated as a mental defective or committed to a mental institution;

(5) Is an alien illegally or unlawfully in the United States; or with certain exceptions, aliens admitted to the United States under a nonimmigrant visa;

(6) Has been discharged from the Armed Forces under dishonorable conditions;

(7) Having been a citizen of the United States, has renounced U.S. citizenship;

(8) Is subject to a court order that restrains the person from harassing, stalking, or threatening an intimate partner or child of such intimate partner; or

(9) Has been convicted in any court of a misdemeanor crime of domestic violence.

The term “person” is defined in section 921(a)(1) as including “any individual, corporation, company, association, firm, partnership, society, or joint stock company.” Section 925(c) of the GCA provides that a person who is prohibited from possessing, shipping, transporting, or receiving firearms or ammunition may make application to the Attorney General to remove the firearms disability imposed under section 922(g) “if it is established to his satisfaction that the circumstances regarding the disability, and the applicant's record and reputation, are such that the applicant will not be likely to act in a manner dangerous to public safety and that the granting of the relief would not be contrary to the public interest.” The Attorney General has delegated the authority to grant relief from firearms disabilities to the Director of ATF.

Section 925(c) further provides that “[w]henever the Attorney General grants relief to any person pursuant to this section he shall promptly publish in the Federal Register notice of such action, together with the reasons therefor.” Regulations implementing the provisions of section 925(c) are set forth in 27 CFR 478.144.

Since 1992, Congress has prohibited ATF from expending appropriated funds to investigate or act upon applications for relief from federal firearms disabilities. However, since 1993 Congress has authorized ATF to expend appropriated funds to investigate and act upon applications filed by corporations for relief from Federal firearms disabilities.

An application to ATF for relief from Federal firearms disabilities under 18 U.S.C. 925(c) was submitted for Xisico. In the matter under review, Xisico was convicted in Federal court of crimes punishable by imprisonment for a term exceeding one year. Specifically, Xisico was convicted on October 6, 2011, in the United States District Court for the Southern District of Texas, for a violation of 18 U.S.C. 541.

Pursuant to 18 U.S.C. 925(c), on November 1, 2018, Xisico was granted relief by ATF from the disabilities imposed by Federal law, 18 U.S.C. 922(g)(1), with respect to the acquisition, receipt, transfer, shipment, transportation, or possession of firearms as a result of this conviction. It has been established to ATF's satisfaction that the circumstances regarding Xisico's disabilities and its record and reputation are such that Xisico will not be likely to act in a manner dangerous to public safety, and that the granting of the relief would not be contrary to the public interest.

Date Approved: January 3, 2019.
Thomas E. Brandon,
Deputy Director.

[FR Doc. 2019-00854 Filed 2-1-19; 8:45 am]

BILLING CODE 4410-FY-P